LEGAL SERVICES CORPORATION

Sunshine Act Meeting; Cancellation—Board of Directors

TIME AND DATE: The August 25, 2011 meeting of the Legal Services Corporation's Board of Directors previously noticed in Volume 76, Number 162 of the Federal Register, at pages 52352-52353, has been cancelled.

CONTACT PERSON FOR INFORMATION: Katherine Ward, Executive Assistant to the Vice President & General Counsel, at (202) 295-1500. Questions may be sent by electronic mail to FR_NOTICE_QUESTIONS@lsc.gov.

Dated: August 23, 2011.
Victor M. Fortuno,
Vice President & General Counsel.

[FR Doc. 2011-21962 Filed 8-24-11; 11:15 am]

BILLING CODE 7050-01-P